DEPARTMENT OF LABOR

Employment and Training Administration

Solicitation for Grant Applications (SGA) Prisoner Re-Entry Initiative

AGENCY: Employment and Training Administration (ETA), Labor.

ACTION: Notice; additional information and correction.

SUMMARY: The Employment and Training Administration published a document in the Federal Register on April 1, 2005, concerning the availability of grant funds for eligible faith-based and community organizations under the Prisoner Re-Entry Initiative: SGA/DFA PY-04-08. This notice is to provide additional information on the informational conferences mentioned in Section IV.3 and the agency contact information mentioned in Section VII.

The three informational conferences will be held on:

May 12, 2005-Los Angeles, California—The Westin Los Angeles Airport, 5400 West Century Boulevard, Los Angeles, California 90045; Tel: 310-216-5858

May 19, 2005—Dallas, Texas—Sheraton Grand Hotel at Dallas/Fort Worth, 4440 W. John Carpenter Freeway, Irving, Texas 75063; Tel: (972) 929-8400

May 26, 2005—Washington, DC Metropolitan area—Loews L'Enfant Plaza Hotel, 480 L'Enfant Plaza, Washington, DC 20024; Tel: (202) 484-1000.

For registration and logistical information on the informational conferences, please visit http://www.pri-conference.com or call (301) 589-2547. We encourage you to register online for the informational conferences. You can also register for one of the conferences by fax at (301) 589-2546. To register, please include the following information: Full Name, Title, Organization, Address, Phone, Fax, E-mail, and which conference you will be attending. Please identify any special needs. You will need to make hotel reservations on your own. The room blocks for the three hotels are under “DOL PRI Conference”. Please call the above number or visit the website for information on the hotels in which the informational conferences will be held. Each conference will start promptly at 8:30 a.m. and will last till 5 p.m., with registration from 7:30 a.m. to 8:30 a.m. Travel and accommodation expenses to attend the informational conferences is not a reimbursable activity, the Federal government will not assume costs associated with travel and accommodations to these conferences.

In addition, as mentioned in Section IV.3 of the SGA, an edited version of the first informational conferences will be available at DOL's Web site at http://www.doleta.gov and DOJ's Web site at http://www.ojp.usdoj.gov/reentry. Please note this corrected spelling of DOJ's Web site.

On page 16861, in the third column under Section VII Agency Contacts, is corrected to read: “Any questions regarding this SGA should be faxed to Marsha Daniels, Grants Management Specialist, Division of Federal Assistance, FAX number (202) 693-2705. (This is not a toll-free number). You must specifically address your FAX to the attention of Marsha Daniels and should include SGA/DFA PY 04-08, a contact name, fax, e-mail (optional), and phone number.”

On page 16861, in the third column under Section VII Agency Contacts, is corrected to read: “Please contact Marsha Daniels, Grants Management Specialist, Division of Federal Assistance, on (202) 693-3504.”

Signed at Washington, DC, this 18th day of April, 2005.
Eric D. Luetkenhaus,
Grant Officer.

[FR Doc. E5-1911 Filed 4-21-05; 8:45 am]

BILLING CODE 4510-30-P